NATIONAL SCIENCE FOUNDATION

Business and Operations Advisory Committee Notice of Meeting

In accordance with the Federal Advisory Committee Act (Pub., L. 92-463, as amended), the National Science Foundation (NSF) announces the following meeting:

Name and Committee Code: Business and Operations Advisory Committee (9556) (Virtual).

Date and Time: March 10, 2021; 11:00 a.m. to 5:30 p.m. (EST).

Place: National Science Foundation, 2415 Eisenhower Avenue, Alexandria, Virginia 22314 (Virtual attendance only). To attend the virtual meeting, please send your request for the meeting link to the following email address: asohail@nsf.gov.

Type of Meeting: OPEN.

Contact Person: Anna Sohail, National Science Foundation, 2415 Eisenhower Avenue, Alexandria, VA 22314; Telephone: (703) 292-8200.

Purpose of Meeting: To provide advice concerning issues related to the oversight, integrity, development and enhancement of NSF's business operations.

Agenda

• Welcome/Introductions

• BFA, OIRM, Budget Updates

• Award Performance Reporting Compliance Challenges

• Approval of Subcommittee for Information Technology Related to Renewing NSF

• Remote Workforce in the New Normal

• NSF Strategic Plan Feedback

• Meeting with Dr. Panchanathan and Dr. Crim

Dated: February 11, 2021.
Crystal Robinson,
Committee Management Officer.

[FR Doc. 2021-03119 Filed 2-16-21; 8:45 am]

BILLING CODE 7555-01-P